DEPARTMENT OF TRANSPORTATION

Pipeline and Hazardous Materials Safety Administration

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 19, 2012.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on September 06, 2012.
Donald Burger,
Chief, General Approvals and Permits.

New Special Permits
Application number | Docket number | Applicant | Regulation(s) affected | Nature of special permit thereof
15681-N |  | Micronesian Aviation Corporation dba Americopters, Saipan, MP | 49 CFR 172.101 Column (9B); 172.204(c)(3); 173.27(b)(2); 175.30(a)(1); 172.200; 172.301(c); 175.75 | To authorize the transportation in commerce of certain hazardous materials by Part 133 Rotorcraft External Load Operations, attached to or suspended from an aircraft, in remote areas of the U.S. without meeting certain hazard communication and stowage requirements. (mode 4)
15690-N |  | Duke Energy Corp. Charlotte, NC | 49 CFR 171.8; 172.300; 172.400; 172.500; 173.6; 177.817; Part 178 | To authorize the transportation in commerce of test kits containing minor amounts of alkali metal dispersed in mineral oil. (mode 1)
15693-N |  | Croman Corporation, White City, OR | 49 CFR 172.101 Column (9B); 172.204(c)(3); 173.27(b)(2); 175.30(a)(1); 172.200; 172.301(c); 175.75 | To authorize the transportation in commerce of certain hazardous materials by Part 133 Rotorcraft External Load Operations, attached to or suspended from an aircraft, without meeting certain hazard communication and stowage requirements. (mode 4)
15698-N |  | Timberline Helicopters, Inc., Sandpoint, ID | 49 CFR 172.101 Column (9B); 172.204(c)(3); 173.27(b)(2); 175.30(a)(1); 172.200; 172.301(c); 175.75 | To authorize the transportation in commerce of certain hazardous materials by Part 133 Rotorcraft External Load Operations, attached to or suspended from an aircraft, in remote areas of the U.S. without meeting certain hazard communication and stowage requirements. (mode 4)
15699-N |  | Flight Express Incorporated, Orlando, FL | 49 CFR 172.203(a); 175.700(b)(2)(ii); 75.702(b) | To authorize the transportation in commerce of radioactive material on cargo only aircraft when the combined transport index exceeds 50.0 and/or the separation criteria cannot be met. (modes 4, 5)
15706-N |  | Viking Packing Specialist, Collinsville, OK | 49 CFR 106, 107, 171-180; 173.13(a); 173.13(b); 173.13(c)(1)(ii); 173.13(c)(1)(iv); 173.13(c)(2)(iii) | To authorize the manufacture, mark and sale of specially designed combination type packaging for transporting certain hazardous materials in limited quantities without required labelling and placarding. (modes 1, 2, 4, 5)
15707-N |  | Air Products and Chemicals, Inc., Allentown, PA | 49 CFR 173.240; 173.242; 176.83 | To authorize the transportation in commerce of a gas purification apparatus containing bulk quantities of certain Division 4.2 (spontaneously combustible) solids in non-DOT specification stainless steel pressure vessels. (modes 1, 2, 3)
15709-N |  | Praxair Distribution, Inc., Danbury, CT | 49 CFR 173.23(a)(4); 173.23(a)(5) | To authorize the transportation in commerce of foreign manufactured cylinders that are not equipped with pressure relief devices. (mode 3)

[FR Doc. 2012-22782 Filed 9-18-12; 8:45 am]

BILLING CODE 4910-60-M